DEPARTMENT OF AGRICULTURE

Rural Housing Service

Rural Business-Cooperative Service

Rural Utilities Service

2014 Farm Bill Implementation Listening Session—Rural Community College Coordinated Strategy

AGENCY: Rural Housing Service, Rural Business-Cooperative Service, and Rural Utilities Service, USDA.

ACTION: Notice of Public Listening Session.

SUMMARY: As part of the implementation of the Agricultural Act of 2014 (commonly referred to as the 2014 Farm Bill), USDA Rural Development is hosting a listening session to receive public input about ways USDA can help community colleges form partnerships and get funding for local economic development. The 2014 Farm Bill directs USDA to work with community and technical colleges on a strategy to help them better serve the needs of local rural communities.

The listening session will provide an opportunity for stakeholders to voice their comments, concerns or requests regarding this strategy. Instructions to register for and attend the listening session are in the SUPPLEMENTARY INFORMATION section of this notice.

DATES: Listening session: The listening session will be on Thursday, October 9, 2014, and will begin at 2:00 p.m. and is scheduled to end no later than 4:00 p.m.

Registration: You must register by October 7, 2014, to attend in person and to provide oral comments during the listening session.

Comments: A recording of public comments will be available. To obtain a copy of the recording, contact Dexter Pearson, dexter.pearson@wdc.usda.gov. Written comments are due by October 10, 2014. Written comments must be submitted electronically via the Federal eRulmaking Portal: Regulations.gov (see below).

ADDRESSES: The listening session will be held in Room 107-A of the Whitten Building at 14th Street and Independence Ave. SW., Washington, DC 20250. We invite you to participate in the listening session. The listening session is open to the members of the public who register (see below).

For participants who cannot attend in person, remote participation will be available:

Dial 1-888-469-0566 and enter Conference ID: 3499699.

We invite all participants to submit comments by any of the following methods:

• Federal eRulemaking Portal: Go to http://www.regulations.gov. Follow the online instructions for submitting comments; or

• Orally at the listening sessions; please also provide a written copy of your comments online as specified.

FOR FURTHER INFORMATION CONTACT: Dexter Pearson, 202-401-9790, Email: dexter.pearson@wdc.usda.gov. Persons with disabilities who require alternative means for communication (Braille, large print, audio tape, etc.) should contact the USDA Target Center at (202) 720-2600 (voice and TDD).

SUPPLEMENTARY INFORMATION: On February 7, 2014, the 2014 Farm Bill (Pub. L. 113-79) was signed into law. The Secretary of Agriculture and the respective USDA agencies, including Rural Development, are working to implement the provisions of the 2014 Farm Bill as expeditiously as possible to meet the needs of stakeholders. To plan and implement the newly authorized Rural College Coordinated Strategy, it is important to consult and engage with our stakeholders to learn and understand their comments, concerns, or requests.

Rural Development will hold the Rural College Coordinated Strategy listening session on Thursday, October 9, 2014, to receive oral comments from groups representing rural-serving community colleges and technical colleges. Oral comments received from this listening session will be documented. All attendees of this listening session who submit oral comments are requested to submit a written copy to help Rural Development accurately capture public input. (See the ADDRESSES section above for information about submitting written comments.) In addition, stakeholders and the public who do not wish to attend or speak at the listening session are invited to submit written comments, which must be received by October 10, 2014 via regulations.gov, as described above.

At the listening session, the focus is for Rural Development to hear from the public; this is not a discussion with Rural Development officials or a question and answer session. As noted above, the purpose is to receive public input that Rural Development can consider in order to implement the Rural Community College Coordinated Strategy provision of the 2014 Farm Bill.

Rural Development is interested in receiving input on all aspects on the implementation of this provision, including, how RD can coordinate critical investments in rural community colleges and technical colleges involved in workforce training and to impact physical, human, social, financial and natural capitol in rural communities. Rural Development efforts are to expand our partnerships and services for improving the quality of life and more effectively serve communities in rural America.

Date: Thursday, October 9, 2014.

Time: 2:00pm-4:00pm.

Location information: United States Department of Agriculture—Whitten Building, 1400 Independence Ave. SW.; Room 107-A; Washington, DC 20250.

The listening session will begin with brief opening remarks from USDA leadership in Rural Development. Individual speakers providing oral comments are requested to be succinct (no more than 3 minutes) as we do not know at this time how many participants there will be. As noted above, we request that speakers providing oral comments also provide a written copy of their comments. (See the ADDRESSES section above for information about submitting written comments.) All stakeholders and interested members of the public are welcome to register to provide oral comments; however, if necessary due to time constraints, a limited number will be selected on a first come, first serve basis.

Instructions for Attending the Listening Session

Space for attendance at the listening session is limited. Due to USDA headquarters security and space requirements, all persons wishing to attend the listening session in person or via phone must send an email to michelle.wert@wdc.usda.gov by October 7, 2014, to register. Registrations will be accepted until maximum capacity is reached. To register, provide the following information:

• First Name

• Last Name

• Organization

• Title

• Email

• Phone Number

• City

• State

For participants who cannot make it to the listening session in person, remote participation will be available: Dial 1-800-981-3173 and enter Conference ID: 0844.

Upon arrival at the USDA Whitten Building, registered persons must provide valid photo identification in order to enter the building; visitors need to enter the Whitten Building on the mall side. Please allow extra time to get through security. Additional information about the listening session, agenda, directions to get to the listening session, and how to provide comments is available at the USDA Farm Bill Web site found at: http://www.usda.gov/wps/portal/usda/usdahome?navid=farmbill.

All written comments received will be publicly available on www.regulations.gov. If you require special accommodations, such as a sign language interpreter, use the contact information above. The listening session location is accessible to persons with disabilities.

Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.

If you wish to file an employment complaint, you must contact your agency's EEO Counselor (PDF) within 45 days of the date of the alleged discriminatory act, event, or in the case of a personnel action. Additional information can be found online at http://www.ascr.usda.gov/complaint_filing_file.html.

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov. Individuals who are deaf, hard of hearing or have speech disabilities and you wish to file either an EEO or program complaint please contact USDA through the Federal Relay Service at (800) 877-8339 or (800) 845-6136 (in Spanish).

Persons with disabilities who wish to file a program complaint, please see information above on how to contact us by mail directly or by email. If you require alternative means of communication for program information (e.g., Braille, large print, audiotape, etc.) please contact USDA's TARGET Center at (202) 720-2600 (voice and TDD).

Dated: September 19, 2014.
Doug O'Brien,
Acting Under Secretary, Rural Development.

[FR Doc. 2014-22827 Filed 9-24-14; 8:45 am]

BILLING CODE 3410-XV-P